DEPARTMENT OF AGRICULTURE

Rural Utilities Service

Publication of Depreciation Rates

AGENCY: Rural Utilities Service, USDA.

ACTION: Notice.

SUMMARY: The Rural Utilities Service (RUS), an agency of the United States Department of Agriculture (USDA), announces the depreciation rates for telecommunications plant for the period ending December 31, 2009.

DATES: These rates are effective immediately and will remain in effect until rates are available for the period ending December 31, 2010.

FOR FURTHER INFORMATION CONTACT: Jonathan P. Claffey, Deputy Assistant Administrator, Telecommunications Program, Rural Utilities Service, STOP 1590—Room 5151, 1400 Independence Avenue, SW., Washington, DC 20250-1590. Telephone: (202) 720-9556.

SUPPLEMENTARY INFORMATION: In the Rural Utilities Service regulation, 7 CFR part 1737, Pre-Loan Policies and Procedures Common to Insured and Guaranteed Telecommunications Loans, § 1737.70(e) explains the depreciation rates that are used by RUS in its feasibility studies. § 1737.70(e)(2) refers to median depreciation rates published by RUS for all borrowers. The following chart provides those rates, compiled by RUS for the reporting period ending December 31, 2009:

Median Depreciation Rates for Rural Utilities Service Borrowers by Equipment Category for Period Ending December 31, 2009
Telecommunications plant category | Depreciation rate
1. Land and Support Assets: |
a. Motor vehicles | 16.00
b. Aircraft | 11.70
c. Special purpose vehicles | 12.50
d. Garage and other work equipment | 10.00
e. Buildings | 3.30
f. Furniture and office equipment | 10.00
g. General purpose computers | 20.00
2. Central Office Switching: |
a. Digital | 8.80
b. Analog & Electro-mechanical | 9.56
c. Operator Systems | 8.69
3. Central Office Transmission: |
a. Radio Systems | 9.21
b. Circuit equipment | 10.00
4. Information origination/termination: |
a. Station apparatus | 12.00
b. Customer premises wiring | 10.00
c. Large private branch exchanges | 11.20
d. Public telephone terminal equipment | 10.82
e. Other terminal equipment | 10.10
5. Cable and wire facilities: |
a. Aerial cable—poles | 6.19
b. Aerial cable—metal | 5.80
c. Aerial cable—fiber | 5.10
d. Underground cable—metal | 5.00
e. Underground cable—fiber | 5.00
f. Buried cable—metal | 5.00
g. Buried cable—fiber | 5.00
h. Conduit systems | 3.50
i. Other | 6.00

Dated: January 7, 2011.
Jonathan Adelstein,
Administrator, Rural Utilities Service.

[FR Doc. 2011-2652 Filed 2-7-11; 8:45 am]

BILLING CODE P